DEPARTMENT OF DEFENSE

Department of the Army, Corps of Engineers

[Department of the Army Permit Number SWG-2019-00067]

[Intent To Prepare an Environmental Impact Statement and Public Scoping Meeting for the Port of Corpus Christi Channel Deepening Project, Nueces and Aransas Counties, Texas

AGENCY: U.S. Army Corps of Engineers, DoD.

ACTION: Notice of intent.

SUMMARY: The U.S. Army Corps of Engineers, Galveston District (Corps), has received a permit application for a Department of the Army (DA) Permit pursuant to Section 10 of the Rivers and Harbors Act of 1899, Section 404 of the Clean Water Act, and Section 103 of the Marine Protection, Research and Sanctuaries Act from the Port of Corpus Christi Authority (PCCA) (SWG-2019-00067) for the deepening of the Corpus Christi Ship Channel (CCSC). The primary Federal involvement associated with the proposed action is the discharge of dredged or fill material into waters of the United States, the construction of structures and/or work that may affect navigable waters, and ocean disposal of dredged material. Federal authorizations for the proposed project would constitute a “major federal action.” Based on the potential impacts, both individually and cumulatively, the Corps intends to prepare an Environmental Impact Statement (EIS) in compliance with the National Environmental Policy Act (NEPA) to render a final decision on the permit application. The Corps' decision will be to issue, issue with modification, or deny DA permits for the proposed action. The EIS will assess the potential social, economic, and environmental impacts of the proposed project and is intended to be sufficient in scope to address Federal, State and local requirements, environmental and socioeconomic issues concerning the proposed action, and permit reviews.

ADDRESSES: Written comments regarding the proposed EIS scope should be addressed to Mr. Jayson Hudson, USACE, Galveston District, Regulatory Branch, P.O. Box 1229, Galveston, Texas 77553-1229. Individuals who would like to electronically provide comments should contact Mr. Hudson by electronic mail at: SWG201900067@usace.army.mil. Emailed comments, including attachments, should be provided in .doc, .docx, .pdf or .txt formats.

FOR FURTHER INFORMATION CONTACT: For information about this project, to be included on the mailing list for future updates and meeting announcements, or to receive a copy of the Draft EIS when it is issued, contact Mr. Jayson Hudson, at the Corps at (409) 766-3108, the email address SWG201900067@usace.army.mil, or the address provided above.

SUPPLEMENTARY INFORMATION: The Corps Galveston District intends to prepare an EIS for the proposed Port of Corpus Christi Deepening project. The proposed project is needed to accommodate transit of fully laden very large crude carriers (VLCCs) that draft approximately 70 feet. The deepening activities would be completed within the footprint of the authorized CCSC channel width. The proposed project does not include widening the channel; however, some minor incidental widening of the channel is expected to meet side slope requirements and to maintain the stability of the channel. As part of the Department of the Army permit application process, a public notice was published on August 1, 2019. The purpose of the public notice was to initiate an early public scoping process to solicit comments and information from the public as well as state and federal agencies to better enable us to make a reasonable decision on factors affecting the public interest. All comments received to date, including those provided for review during the public notice comment period, will be considered by the Galveston District during EIS preparation.

1. Scoping Process/Public Involvement: The Corps invites all affected federal, state, and local agencies, affected Native American Tribes, other interested parties, and the general public to participate in the NEPA process during development of the EIS. The purpose of the public scoping process is to provide information to the public, narrow the scope of analysis to significant environmental issues, serve as a mechanism to solicit agency and public input on alternatives and issues of concern, and ensure full and open participation in scoping for the Draft EIS. To ensure that all of the issues related to this proposed project are addressed, the Corps will conduct public scoping meeting(s) in which agencies, organizations, and members of the general public are invited to present comments or suggestions with regard to the range of actions, alternatives, and potential impacts to be considered in the EIS. The scoping meeting will begin with an informal open house including a presentation of the proposed action and a description of the NEPA process. These will be held in person, or virtually, as determined by the Agency. Comments will be accepted for 14 days following the scoping meeting. Displays and other forms of information about the proposed action will be available, and the Corps and PCCA personnel will be present at the informal session to discuss the proposed project and the EIS Process. The Corps invites comments on the proposed scope and content of the EIS from all interested parties. Verbal transcribers will be available at the scoping meeting to accept verbal comments. A time limit will be imposed on verbal comments. Written comments may be submitted prior, during, or up to 14 days after the scoping meeting. The specific dates, times, and locations of the meetings will be published in press releases, special public notices and on the Corps' project website: https://www.swg.usace.army.mil/Business-With-Us/Regulatory/Special-Projects-Environmental-Impact-Statements/.

2. Project Background: The CCSC is currently authorized by the USACE to project depths of −54 feet and −56 feet mean lower low water (MLLW) from Station 110+00 to Station −330+00 as part of the CCSC Improvement Project. The current authorized width of the CCSC is 600 feet inside the jetties and 700 feet in the entrance channel. The proposed project would deepen the channel from Station 110+00 to Station −72+50 to a maximum depth of -79 feet MLLW (-75 feet MLLW plus two feet of advanced maintenance and two feet of allowable overdredge), and from Station −72+50 to Station −330+00, the channel would be deepened to a maximum depth of −81 feet MLLW (−77 feet MLLW plus two feet of advanced maintenance and two feet of allowable overdredge). The proposed project includes a 29,000-foot extension of the CCSC from Station-330+00 to Station -620+00 to a maximum depth of -81 MLLW (−77 feet MLLW plus two feet of advanced maintenance and two feet of allowable overdredge) to reach the −80-foot MLLW bathymetric contour in the Gulf of Mexico. The proposed project would span approximately 13.8 miles from a location near the southeast side of Harbor Island to the -80-foot MLLW bathymetric contour in the Gulf of Mexico. The proposed project would cover approximately 1,778 acres, creating approximately 46 million cubic yards (MCY) of new work dredged material (17.1 MCY of clay and 29.2 MCY of sand).

The proposed project consists of the following:

Deepening a portion of the CCSC from the currently authorized depth of −54 to −56 MLLW to final constructed depths ranging from −79 to −81 feet MLLW;

Extending the existing terminus of the authorized channel an additional 29,000 feet into the Gulf of Mexico to reach the −80-foot MLLW bathymetric contour;

Expanding the existing Inner Basin at Harbor Island as necessary to accommodate VLCC turning, which includes construction of a flare transition from the CCSC within Aransas to meet the turning basin expansion;

Potential placement of new work dredged material into waters of the United States for beneficial use sites located in and around Corpus Christi and Redfish Bays;

Potential placement of dredged material on San Jose Island for dune restoration;

Potential placement of dredged material feeder berms for beach restoration along San Jose and Mustang Islands; and

Transport of new work dredged material to the CCSC Improvement Project New Work Ocean Dredged Material Disposal Site (ODMDS).

3. Location: The proposed project is located within the existing channel bottom of the CCSC starting at station 110+00 near the southeast side of Harbor Island, traversing easterly through the Aransas Pass, and extending beyond the currently authorized terminus Station −330+00 an additional 29,000 feet terminating out into the Gulf of Mexico at the proposed new Terminus Station −620+00, an approximate distance of 13.8 miles, in Port Aransas, Nueces County, Texas. The project can be located on the U.S.G.S. quadrangle map entitled: Port Aransas, Texas.

4. Purpose and Need: To safely, efficiently, and economically export current and forecasted crude oil inventories via VLCC, a common vessel in the world fleet. Crude oil is delivered via pipeline from the Eagle Ford and Permian Basins to multiple locations at the Port of Corpus Christi. Crude Oil inventories exported at the Port of Corpus Christi have increased from 280,000 barrels per day in 2017 to 1,650,000 barrels in January 2020 with forecasts increasing to 4,500,000 barrels per day by 2030. Current facilities require vessel lightering to fully load a VLCC which increases cost and affects safety.

5. Alternatives: An evaluation of alternatives to PCCA's preferred alternative initially being considered includes a No Action alternative; alternatives that would avoid, minimize, and compensate for impacts to the environment within the proposed Project footprint; alternatives that would avoid, minimize, and compensate for impacts to the environment outside the footprint; alternatives using alternative practices; and other reasonable alternatives that will be developed through the Project scoping process, which may also meet the identified purpose and need.

6. Public Involvement: The purpose of the public scoping process is to determine relevant issues that will influence the scope of the environmental analysis and EIS alternatives. General concerns in the following categories have been identified to date: Potential direct effects to waters of the United States including wetlands; water and sediment quality; aquatic species; air quality; socioeconomic environment; archaeological and cultural resources; recreation and recreational resources; hazardous waste and materials; aesthetics; public health and safety; navigation; ferry operations; erosion; invasive species; cumulative impacts; public benefit and needs of the people along with potential effects on the human environment. All parties who express interest will be given an opportunity to participate in the process.

7. Coordination: The proposed action is being coordinated with a number of Federal, State, regional and local agencies. As part of the NEPA process, the U.S. Environmental Protection Agency, National Oceanic and Atmospheric Administration, National Marine Fisheries Service, the U.S. Fish and Wildlife Service, and the U.S. Coast Guard will be cooperating agencies in the preparation of the EIS. The Texas Commission on Environmental Quality and the Texas Parks and Wildlife Department will be participating agencies in the preparation of the EIS.

8. Availability of Draft EIS and Scoping: The draft EIS is estimated to be available for public review and comment no sooner than the spring of 2021. At that time a 45-day public review period will be provided for individuals and agencies to review and comment on the DEIS.

Pete G. Perez,
Director, Programs Directorate.

[FR Doc. 2020-07313 Filed 4-6-20; 8:45 am]

BILLING CODE 3720-58-P